FEDERAL COMMUNICATIONS COMMISSION

Public Information Collections Approved by Office of Management and Budget

February 23, 2005.

SUMMARY: The Federal Communications Commission (FCC) has received Office of Management and Budget (OMB) approval for the following public information collections pursuant to the Paperwork Reduction Act of 1995, Pub. L. 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0972.

OMB Approval date: 11/29/2004.

Expiration Date: 11/30/2007.

Title: Multi-Association Group (MAG) Plan for Regulation of Interstate Services of Non-Price Cap Incumbent Local Exchange Carriers and Interexchange Carriers.

Form No.: FCC Forms 507, 508 & 509.

Estimated Annual Burden: 5,200 responses; 31,607 total annual burden hours; approximately 1-6 hours average per respondent.

Needs and Uses: The Commission took additional steps to provide rate-of-return carriers greater flexibility to respond to changing marketplace conditions. The Commission revised its access and universal service rules by (1) modifying the “all-or-nothing” rule to permit rate-of-return carriers to bring recently acquired price cap lines back to rate-of-return regulation; (2) granting rate-of-return carriers the authority immediately to provide geographically deaveraged transport and special access rates, subject to certain limitations; and (3) merging Long Term Support with Interstate Common Line Support.

OMB Control No.: 3060-0774.

OMB Approval date: 12/20/2004.

Expiration Date: 12/31/2007.

Title: Federal-State Joint Board on Universal Service, CC Docket No. 96-45 (47 CFR Part 54).

Form No.: N/A.

Estimated Annual Burden: 6,311,546 responses; 1,876,790 total annual burden hours; 20 minutes average response time per respondent.

Needs and Uses: Congress directed the Commission to implement a new set of universal service support mechanisms that are explicitly and sufficient to advance the universals service principles enumerated in 47 U.S.C. Section 254 and other such principles as the Commission believes are necessary and appropriate for the protection of the public interest, convenience and necessity, and are consistent with the Act. Part 54 promulgates the rules and requirements to preserve and advance universal service; the collections are necessary to implement Sec. 254.

OMB Control No.: 3060-0992.

OMB Approval date: 1/14//2005.

Expiration Date: 1/31/2008.

Title: CC Docket No. 96-45 (FCC 01-195) and 47 CFR Section 54.507 (d)(1)-(4).

Form No.: N/A.

Estimated Annual Burden: 850 responses; 850 total annual burden hours; 1 hour per respondent.

Needs and Uses: Section 54.507 (d) provides addititonal time for recipients under the schools and libraries universal service support mechanism to implement contracts or agreements with service providers for non-recurring services. Section 54.507(d) extends the deadline for the implementation of non-recurring sevices for certain qualified applicants who are unable to complete implementation by the September 30 deadline. The rule provides schools and libraries with more time to install non-recurring services.

OMB Control No.: 3060-0513.

OMB Approval date: 2/10/2005.

Expiration Date: 2/29/2008.

Title: ARMIS Joint Cost Report.

Form No.: FCC Report 43-03.

Estimated Annual Burden: 83 responses; 4,150 total annual burden hours; 50 hours average per respondent.

Needs and Uses: The Joint Cost Report is needed to administer our joint cost rules (Part 64) and to analyze data in order to prevent cross-subsidization of non-regulated operations by the regulated operations of Tier 1 carriers.

Federal Communications Commission.
Marlene H. Dortch,
Secretary.

[FR Doc. 05-4249 Filed 3-3-05; 8:45 am]

BILLING CODE 6712-01-P